DEPARTMENT OF COMMERCE

Foreign-Trade Zones Board

[Order No. 1527]

Approval of Expansion of Authority for Subzone 133D; Deere & Company (Construction Equipment); Davenport, IA

Pursuant to its authority under the Foreign-Trade Zones Act of June 18, 1934, as amended (19 U.S.C. 81a-81u), the Foreign-Trade Zones Board (the Board) adopts the following Order:

Whereas, Deere & Company, operator of FTZ Subzone 133D, has requested authority to expand the scope of manufacturing under zone procedures within Subzone 133D at the company's facility in Davenport, Iowa (FTZ Docket 49-2006, filed 12/28/06);

Whereas, notice inviting public comment has been given in the Federal Register (72 FR 1317, 1/11/07); and,

Whereas, the Board adopts the findings and recommendations of the examiner's report, and finds that the requirements of the FTZ Act and the Board's regulations are satisfied, and that approval of the application is in the public interest;

Now, therefore, the Board hereby approves the expansion of the scope of manufacturing authority under zone procedures within Subzone 133D to include the manufacture of articulated dump trucks at the Deere & Company plant located in Davenport, Iowa, as described in the application and the Federal Register notice, subject to the FTZ Act and the Board's regulations, including Section 400.28.

Signed at Washington, DC, this 28th day of September 2007.
Stephen J. Claeys,
Acting Assistant Secretary of Commerce for Import Administration, Alternate Chairman, Foreign-Trade Zones Board.
Attest:
Andrew McGilvray,
Executive Secretary.

[FR Doc. E7-19653 Filed 10-3-07; 8:45 am]

BILLING CODE 3510-DS-P